COMMITTEE FOR PURCHASE FROM PEOPLE WHO ARE BLIND OR SEVERELY DISABLED

Procurement List; Additions and Deletions; Recissions

AGENCY: Committee for Purchase From People Who Are Blind or Severely Disabled.

ACTION: Rescission of Previous Procurement List Decision.

SUMMARY: The Committee for Purchase From People Who Are Blind or Severely Disabled (Committee) is providing notice of a rescission of its previous Procurement List decision adding “Eyewear” as described in the Notice in the Federal Register of October 26, 2012.

FOR FURTHER INFORMATION CONTACT: Barry S. Lineback, Director, Business Operations, 1401 S. Clark St., Suite 10800, Arlington, VA, Telephone: (703) 603-2118; FAX 703-603-0655 or email CMTEFedReg@abilityone.gov.

SUPPLEMENTARY INFORMATION: Federal Register Notice of Friday, October 26, 2012 (77 FR 65365-65366), “Procurement List: Additions”, announced that the Committee had approved adding “Eyewear” products to the Procurement List (PL) with “Effective Date: November 26, 2012” specified. By Federal Register Notice of December 11, 2012 (77 FR 73620—73621), the Committee announced that it was suspending the effective date of the addition of the “Eyewear” products in order to reexamine whether it had all appropriate information for consideration when the Committee made its original decision to add the eyewear products to the PL. As a result of this reconsideration, the Committee is rescinding its original decision and thereby the Notice of the addition of the following listed products from the PL, effective upon publication of this Notice:

Eyewear

NSN: 6650-00-NIB-0009—Single Vision, Plastic, Clear

NSN: 6650-00-NIB-0010—Flat Top 28, Bifocal, Plastic, Clear

NSN: 6650-00-NIB-0011—Flat Top 35, Bifocal, Plastic, Clear

NSN: 6650-00-NIB-0012—Round 25, Round 28 Bifocal, Plastic, Clear

NSN: 6650-00-NIB-0013—Flat Top 7x28, Trifocal, Plastic, Clear

NSN: 6650-00-NIB-0014—Flat Top 8x35, Trifocal, Plastic, Clear

NSN: 6650-00-NIB-0015—Progressives, Plastic, Clear

NSN: 6650-00-NIB-0016—SV, Aspheric, Lenticular, Plastic, Clear

NSN: 6650-00-NIB-0017—FT/Round, Aspheric, Lenticular, Plastic, Clear

NSN: 6650-00-NIB-0018—Bifocal, Executive, Plastic, Clear

NSN: 6650-00-NIB-0019—Single Vision, Glass, Clear

NSN: 6650-00-NIB-0020—Flat Top 28, Bifocal, Glass, Clear

NSN: 6650-00-NIB-0021—Flat Top 35, Bifocal, Glass, Clear

NSN: 6650-00-NIB-0022—Flat Top 7x28, Trifocal, Glass, Clear

NSN: 6650-00-NIB-0023—Flat Top 8x35, Trifocal, Glass, Clear

NSN: 6650-00-NIB-0024—Progressives, Glass, Clear

NSN: 6650-00-NIB-0025—Executive, Bifocal, Glass, Clear

NSN: 6650-00-NIB-0026—Single Vision, Polycarbonate, Clear

NSN: 6650-00-NIB-0027—Flat Top 28, Bifocal, Polycarbonate, Clear

NSN: 6650-00-NIB-0028—Flat Top 35, Bifocal, Polycarbonate, Clear

NSN: 6650-00-NIB-0029—Flat Top 7x28, Trifocal, Polycarbonate, Clear

NSN: 6650-00-NIB-0030—Flat Top 8x35, Trifocal, Polycarbonate, Clear

NSN: 6650-00-NIB-0031—Progressives (VIP, Adaptar, Freedom, Image), Polycarbonate

NSN: 6650-00-NIB-0032—Single Vision, Plastic, Clear

NSN: 6650-00-NIB-0033—Flat Top 28, Bifocal, Plastic, Clear

NSN: 6650-00-NIB-0034—Flat Top 35, Bifocal, Plastic, Clear

NSN: 6650-00-NIB-0035—Round 25 and 28, Bifocal, Plastic, Clear

NSN: 6650-00-NIB-0036—Flat Top 7x28, Trifocal, Plastic, Clear

NSN: 6650-00-NIB-0037—Flat Top 8x35, Trifocal, Plastic, Clear

NSN: 6650-00-NIB-0038—Progressives, Plastic, Clear

NSN: 6650-00-NIB-0039—SV, Aspheric, Lenticular, Plastic, Clear

NSN: 6650-00-NIB-0040—FT or round aspheric lenticular, Plastic, Clear

NSN: 6650-00-NIB-0041—Bifocal, Executive, Plastic, Clear

NSN: 6650-00-NIB-0042—Single Vision, Glass, Clear

NSN: 6650-00-NIB-0043—Flat Top 28, Bifocal, Glass, Clear

NSN: 6650-00-NIB-0044—Flat Top 35, Bifocal, Glass, Clear

NSN: 6650-00-NIB-0045—Flat Top 7x28, Trifocal, Glass, Clear

NSN: 6650-00-NIB-0046—Flat Top 8x35, Trifocal, Glass, Clear

NSN: 6650-00-NIB-0047—Progressives (VIP, Adaptar, Freedom), Glass, Clear

NSN: 6650-00-NIB-0048—Bifocal, Executive, Glass, Clear

NSN: 6650-00-NIB-0049—Single Vision, Polycarbonate, Clear

NSN: 6650-00-NIB-0050—Flat Top 28, Polycarbonate, Clear

NSN: 6650-00-NIB-0051—Flat Top 35, Bifocal, Polycarbonate, Clear

NSN: 6650-00-NIB-0052—Flat Top 7x28, Trifocal, Polycarbonate, Clear

NSN: 6650-00-NIB-0053—Flat Top 8x35, Trifocal, Polycarbonate, Clear

NSN: 6650-00-NIB-0054—Lenses, Progressives (VIP, Adaptar, Freedom, Image), Polycarbonate

NSN: 6650-00-NIB-0055—Transition, Plastic, CR-39

NSN: 6650-00-NIB-0056—Photochromatic/Transition, (Polycarbonate Material)

NSN: 6650-00-NIB-0057—Photogrey (glass only)

NSN: 6650-00-NIB-0058—High Index transition (CR 39)

NSN: 6650-00-NIB-0059—Anti-reflective Coating (CR 39 and polycarbonate)

NSN: 6650-00-NIB-0060—Ultraviolet Coating (CR 39)

NSN: 6650-00-NIB-0061—Polarized Lenses (CR 39)

NSN: 6650-00-NIB-0062—Slab-off (polycarbonate, CR 39: trifocal and bifocal

NSN: 6650-00-NIB-0063—High Index (CR-39)

NSN: 6650-00-NIB-0064—Prism (up to 6 diopters no charge) >6 diopters/diopter

NSN: 6650-00-NIB-0065—Diopter + or −9.0 and above

NSN: 6650-00-NIB-0066—Lenses, oversize eye, greater than 58, excluding progressive

NSN: 6650-00-NIB-0067—Hyper 3 drop SV, multifocal (CR 39)

NSN: 6650-00-NIB-0068—Add powers over 4.0

NSN: 6650-00-NIB-0069—Plastic or Metal

Coverage: C-List for 100% of the requirements of Veterans Integrated Service Networks (VISNs) 1, 3, 4, 5, 6, 7 and 8 as aggregated by the Service Area Office East, Veterans Health Administration, Department of Veterans Affairs, Pittsburgh, PA.

NPA: Winston-Salem Industries for the Blind, Inc., Winston-Salem, NC

Contracting Activity: Department of Veterans Affairs Service Area Organization East, Pittsburgh, PA

Through earlier Committee decisions that have not been rescinded, the VA's requirements for VISNs 2, 7, and Port Richey, FL remain on the PL.

Barry S. Lineback,
Director, Business Operations.

[FR Doc. 2013-08256 Filed 4-9-13; 8:45 am]

BILLING CODE 6353-01-P